DEPARTMENT OF HEALTH AND HUMAN SERVICES

Centers for Medicare & Medicaid Services

[CMS-3259-FN]

Medicare Program; Application by the American Association of Diabetes Educators (AADE) for Continued Recognition as a National Accreditation Organization for Accrediting Entities To Furnish Outpatient Diabetes Self-Management Training

AGENCY: Centers for Medicare & Medicare Services (CMS), HHS.

ACTION: Final Notice.

SUMMARY: This final notice announces the approval of an application from the American Association of Diabetes Educators for continued recognition as a national accreditation program for accrediting entities that wish to furnish outpatient diabetes self-management training to Medicare beneficiaries.

DATES: Effective Date: This notice is effective on August 27, 2012.

FOR FURTHER INFORMATION CONTACT: Jacqueline Leach, (410) 786-4282.

Kristin Shifflett, (410) 786-4133.

Maria Hammel, (410) 786-1775.

SUPPLEMENTARY INFORMATION

I. Background

Under the Medicare program, eligible beneficiaries may receive outpatient diabetes self-management training (DSMT) when ordered by the physician (or qualified non-physician practitioner) treating the beneficiary's diabetes, provided certain requirements are met by the provider. Pursuant to our regulations at 42 CFR 410.141(e)(3), we use national accrediting organizations (NAOs) to assess whether provider entities meet Medicare requirements when providing DSMT services for which Medicare payment is made. If a provider entity is accredited by an approved accrediting organization, it is “deemed” to meet applicable Medicare requirements.

Under section 1865(a)(1)(B) of the Social Security Act (the Act), a NAO must have an agreement in effect with the Secretary, and meet the standards and requirements specified by the Secretary in part 410, subpart H, to qualify for deeming authority. The regulations pertaining to application procedures for NAOs for DSMT are specified at § 410.142 (CMS process for approving national accreditation organizations).

A NAO applying for deeming authority must provide us with reasonable assurance that the accrediting organization requires accredited entities to meet requirements that are at least as stringent as our requirements.

We may approve and recognize a nonprofit organization with demonstrated experience in representing the interests of individuals with diabetes to accredit entities to furnish DSMT. The accreditation organization, after being approved and recognized by CMS, may accredit an entity to meet one of the sets of quality standards in § 410.144 (Quality standards for deemed entities).

Section 1865(a)(2) of the Act further requires that we review the applying accreditation organization's requirements for accreditation, as follows:

• Survey procedures.

• Ability to provide adequate resources for conducting required surveys.

• Ability to supply information for use in enforcement activities.

• Monitoring procedures for providers found out of compliance with the conditions or requirements.

• Ability to provide CMS with necessary data for validation.

We then examine the NAO's accreditation requirements to determine if they meet or exceed the Medicare conditions as we would have applied them. Section 1865(a)(3)(A) of the Act requires that we publish a notice identifying the national accreditation body making the request within 30 days of receipt of a completed application. The notice must describe the nature of the request and provide at least a 30-day public comment period. We have 210 days from receipt of the request to publish a finding of approval or denial of the application. If we recognize an accreditation organization in this manner, any entity accredited by the national accreditation body's CMS-approved program for that service will be “deemed” to meet the Medicare conditions for coverage.

II. Provisions of the Proposed Notice

On February 24, 2012, we published a proposed notice in the Federal Register (77 FR 11130) entitled, “Application by the American Association of Diabetes Educators (AADE) for Continued Recognition as a National Accreditation Organization for Accrediting Entities to Furnish Outpatient Diabetes Self-Management Training,” to notify the public of the AADE's request for continued approval of its accreditation to deem entities furnishing DSMT services.

III. Analysis of and Responses to Public Comments on the Proposed Notice

We received 1 public comment in response to the February 24, 2012 proposed notice. A summary of the comment and our response is set forth below.

Comment: A commenter supported the approval of the AADE to deem DSMT programs. The commenter stated that the AADE provides guidance for its members and represents the values of the profession. The commenter further stated that qualified diabetes educators can lead the way toward a healthier population by guiding those with chronic conditions toward healthier lifestyles and stronger self-advocacy.

Response: We thank the commenter for his or her comment. The goal of the DSMT program is to provide beneficiaries with tools to better manage their diabetes and to achieve good clinical and behavioral outcomes. Based on the information submitted by the AADE, we believe that the AADE is striving to meet the same goals we developed for quality DSMT.

IV. Provisions of the Final Notice

AADE's application to continue as an accredited NAO to deem entities for the purposes of DSMT is approved for a period of 3 years. The accreditation is effective on August 27, 2012. This approval is subject to renewal subsequent to the receipt of an application from the AADE and subject to review, evaluation, and approval of its program.

V. Collection of Information Requirements

This document does not impose information collection and recordkeeping requirements. Consequently, it need not be reviewed by the Office of Management and Budget under the authority of the Paperwork Reduction Act of 1995.

(Catalog of Federal Domestic Assistance Program No. 93.773 Medicare-Hospital Insurance Program; and No. 93.774, Medicare-Supplementary Medical Insurance Program)

Dated: July 3, 2012.
Marilyn Tavenner,
Acting Administrator, Centers for Medicare & Medicaid Services.

[FR Doc. 2012-17293 Filed 7-26-12; 8:45 am]

BILLING CODE 4120-01-P